DEPARTMENT OF JUSTICE

Antitrust Division

Notice Pursuant to the National Cooperative Research and Production Act of 1993—National Spectrum Consortium, Inc.

Notice is hereby given that, on February 3, 2025, pursuant to section 6(a) of the National Cooperative Research and Production Act of 1993, 15 U.S.C. 4301 et seq. (“the Act”), National Spectrum Consortium, Inc. (“NSC”) has filed written notifications simultaneously with the Attorney General and the Federal Trade Commission disclosing changes in its membership. On April 2, 2024, the National Spectrum Consortium commenced operating as a non-profit under the name National Spectrum Consortium, Inc. The notifications were filed for the purpose of extending the Act's provisions limiting the recovery of antitrust plaintiffs to actual damages under specified circumstances. Specifically, National Strategic Research Institute at the University of Nebraska, Omaha, NE; Rapid Offset Technologies LLC, Toano, VA; 3DFortify Inc., Charlestown, MA; DRS Training & Control Systems, LLC, Fort Walton Beach, FL; C-3 Comm Systems, LLC, Arlington, VA; University of Utah, Salt Lake City, UT; Whitespace Innovations, Huntsville, AL; Pacific Antenna Systems LLC., Camarillo, CA; The University of Southern Mississippi, Hattiesburg, MS; 10x National Security, Aldie, VA; Omni Fed LLC, Gainesville, VA; Rysavy Research LLC, Hood River, OR; C3 AI, Redwood City, CA; Fuse Integrations, San Diego, CA; Ozni AI, Colorado Springs, CO; VectorWave Corporation, Waltham, MA; MMB Solutions, Ridgeville, SC; Future Technologies Innovations, LLC, Suwanee, GA; Two Six Labs LLC, Arlington, VA; GPD Optoelectronics Corp., Salem, NH; Abside Networks, Inc., Acton, MA; Haigh-Farr, Inc., Bedford, NH; and Defense Operations & Execution Solutions, Inc., W. Melbourne, FL, have been added as parties to this venture.

Also, 1901 Group LLC, Reston, VA; Aarna Networks, Inc., San Jose, CA; Advanced Ground Information Systems, Inc., Jupiter, FL; Aether Argus, Inc., Atlanta, GA; Altagrove LLC, Herndon, VA; Anokiwave, Inc., Billerica, MA; Appliedinfo Partners, Inc., Somerset, NJ; ARD Global LLC, Vienna, VA; Athena Technologies LLC, Orlando, FL; Augmntr, Inc., Berthoud, CO; Aurora Insight, Inc., Denver, CO; AVATAR Partners, Inc., Irvine, CA; Blacksky Geospatial Solutions, Inc., Herndon, VA; BridgeComm, Inc., Denver, CO; Brigham Young University, Provo, UT; CGI Federal, Inc., Fairfax, VA; Clarity Cyber LLC, Linthicum, MD; Cobalt Solutions, Inc., Austin, TX; Cobham Advanced Electronic Solutions, Exeter, NH; Corning Specialty Materials, Keene, NH; Cyberspace Solutions LLC, Herndon, VA; DTC Communications, Inc., Herndon, VA; Dynetics, Inc., Huntsville, AL; Echo Ridge LLC, Sterling, VA; Epsilon Systems Solutions, Inc., San Diego, CA; Erebus Solutions, Inc., Rochester, NY; Exium, Inc., Allen, TX; Futures Action Network LLC, New York, NY; G3 Technologies, Inc., Columbia, MD; GPS Source, Inc., Colorado Springs, CO; Herrick Technology Laboratories, Inc., Germantown, MD; Hewlett Packard Enterprise Company, Reston, VA; Honeywell International, Inc., Clearwater, FL; Huckworthy LLC, Cape Charles, VA; iCallidus, Inc., Columbia, MD; Intelsat General Communications LLC, McLean, VA; Intuitive Research and Technology Corp., Huntsville, AL; Iron Bow Technologies LLC, Herndon, VA; IT Consulting Partners LLC, Chagrin Falls, OH; Jacobs Technology, Inc., Tullahoma, TN; JACS Solutions, Inc., Linthicum Heights, MD; JEM Engineering LLC, Laurel, MD; Key Bridge Wireless LLC, McLean, VA; Kumu Networks, Sunnyvale, CA; Kyrus Tech, Inc., Sterling, VA; Leonardo Electronics, Inc., Arlington, VA; LinQuest Corp., Los Angeles, CA; Metamagnetics, Inc., Westborough, MA; National Instruments Corp., Austin, TX; Naval Systems, Inc., Lexington Park, MD; NEC Corp. of America, Irving, TX; NetScout Systems, Inc., Westford, MA; NeuComm Solutions LLC, Aurora, CO; NineTwelve Institute, Indianapolis, IN; Northeast UAS Airspace Integration Research Alliance, Inc., Syracuse, NY; Oceanit Laboratories, Inc., Honolulu, HI; Omnispace LLC, McLean, VA; OST, Inc., McLean, VA; Pacific Star Communications, Inc., Portland, OR; Pareto Frontier LLC, Westford, MA; Parry Labs LLC, Columbia, MD; PathFinder Digital LLC, Sanford, FL; Pathfinder Wireless Corp., Seattle, WA; Performance Defense LLC, Phoenix, AZ; Photonic Systems, Inc., Billerica, MA; Polaris Alpha Advanced Systems, Inc., Fredericksburg, VA; Power Fingerprinting, Inc., Vienna, VA; Qorvo Texas LLC, Richardson, TX; Quantum Xchange, Inc., Bethesda, MD; Rampart Communications, Inc., Hanover, MD; RDA Technical Services, Inc., Ft. Myers, FL; Rebel Space Technologies, Inc., Long Beach, CA; Rebellion Defense, Inc., Washington, DC; Rice University, Houston, TX; Robotic Research LLC, Clarksburg, MD; RT Logic, Colorado Springs, CO; Saab, Inc., East Syracuse, NY; Scalable Network Technologies, Inc., Culver City, CA; Science Applications International Corp., Reston, VA; SecureG, Inc., Herndon, VA; Shipcom Federal Solutions LLC, Belcamp, MD; Simba Chain, Inc., Plymouth, IN; Sol Firm LLC, Mount Pleasant, SC; Southern Methodist University, Dallas, TX; SRI International, Menlo Park, CA; Stevens Institute of Technology, Hoboken, NJ; Telesto Group LLC, McLean, VA; Terry Consultants, Inc., Annandale, VA; TLC Solutions, Inc., Saint Augustine, FL; Tyto Athene LLC, Herndon, VA; University of California, Irvine, Irvine, CA; University of Mississippi, University, MS; University of Virginia, Charlottesville, VA; Viavi Solutions, Inc., Germantown, MD; Vision Products LLC, Campbell, CA; VMware, Inc., Palo Alto, CA; Vorbeck Materials Corp., Jessup, MD; WaveLink, Inc., Huntsville, AL; XCOM Labs, Inc., San Diego, CA; Zoic Labs LLC, Culver City, CA; Veritech LLC, Aberdeen, MD; University of Southern California, Marina del Rey, CA; Shift5, Inc., Arlington, VA; Radius Method LLC, Boca Raton, FL; and Electro Magnetic Applications, Inc., Lakewood, CO, have withdrawn as parties to this venture.

No other changes have been made in either the membership or planned activity of the group research project. Membership in this group research project remains open, and NSC intends to file additional written notifications disclosing all changes in membership.

On September 23, 2014, NSC filed its original notification pursuant to section 6(a) of the Act. The Department of Justice published a notice in the Federal Register pursuant to section 6(b) of the Act on November 4, 2014 (79 FR 65424).

The last notification was filed with the Department on April 3, 2024. A notice was published in the Federal Register pursuant to section 6(b) of the Act on June 28, 2024 (89 FR 54046).

Suzanne Morris,
Deputy Director Civil Enforcement Operations, Antitrust Division.

[FR Doc. 2025-04068 Filed 3-13-25; 8:45 am]

BILLING CODE P